ENVIRONMENTAL PROTECTION AGENCY

[FRL-7088-1]

Notice of Proposed Administrative Settlement Pursuant to the Comprehensive Environmental Response, Compensation, and Liability Act

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement concerning the Double Eagle Refinery site, Oklahoma City, Oklahoma with the parties referenced in the Supplementary Information portion of this Notice.

The settlement requires the settling de minimis parties to pay a total of $3,323,666 as payment of past response costs to the Hazardous Substances Superfund, and a total of $73,022.90 to the U.S. Department of the Interior Natural Resource Damage Assessment and Restoration Fund. The settlement includes a covenant not to sue pursuant to sections 106 and 107 of CERCLA, 42 U.S.C. 9606 and 9607.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before November 21, 2001.

ADDRESSES: The proposed settlement and additional background information relating to the settlement are available for public inspection at 1445 Ross Avenue, Dallas, Texas 75202-2733. A copy of the proposed settlement may be obtained from Carl Bolden, 1445 Ross Avenue, Dallas, Texas 75202-2733 at (214) 665-6713. Comments should reference the Double Eagle Refinery Superfund Site, Oklahoma City, Oklahoma and EPA Docket Number 6-07-01, and should be addressed to Carl Bolden at the address listed above.

FOR FURTHER INFORMATION CONTACT: Pamela J. Travis,1445 Ross Avenue, Dallas, Texas 75202-2733 at (214) 665-8056.

SUPPLEMENTARY INFORMATION:

Adcor Drilling, Inc.

AT&T Corporation

Browning-Ferris Industries

Cato Oil & Grease Company

Conoco Chemical Company

Cooper Industries, Inc. (Demco)

Defense Logistic Agency

Dresser Titan

General Electric

Groendyke Transport

Hertz Truck Rental

Huffy Corporation

Jack Cooper Transport

Mobil Chemical

National Beef Packing

Northwest Transformer

OCT Equipment

Oklahoma City Freightliner Inc.

Oklahoma Gas & Electric

Penske Truck Leasing (Feld)

Rheem Manufacturing Company

Rural Electric Co-Operative

Ryder Truck Rental (and Wilco)

Scrivner, Inc.

Southwest Electric Co.

Tinker Air Force Base

Truckstops Corporation of America

Turner Brothers Trucking

The Western Company

Wolverine Tube Inc.

Dated: September 27, 2001.
Lynda F. Carroll,
Acting Regional Administrator, Region 6.

[FR Doc. 01-26530 Filed 10-19-01; 8:45 am]

BILLING CODE 6560-50-P